DEPARTMENT OF COMMERCE

Submission for OMB Review; Comment Request

DOC has submitted to the Office of Management and Budget (OMB) for clearance the following proposal for collection of information under the provisions of the Paperwork Reduction Act (44 U.S.C. chapter 35).

Agency: U.S. Census Bureau.

Title: 2001 Residential Finance Survey.

Form Number(s): D-2900, D-2900(L), D-2901, D-2901(L), D-2901(FE)(L), D-2902, D-2902(L), D-2904, D-2905(L).

Agency Approval Number: None.

Type of Request: New collection.

Burden: 77,500 hours.

Number of Respondents: 330,000.

Avg Hours Per Response: 14 minutes.

Needs and Uses: The Residential Finance Survey (RFS) provides data about the financing of nonfarm, privately-owned residential properties in the United States. RFS data, in conjunction with statistics from other sources, are used in assessing public policies affecting real estate, mortgage banking, economic policy, social welfare, and related areas of concern, and in developing and evaluating proposals about them. The data are particularly useful to economists and financial analysts who guide and counsel home and apartment builders, financial institutions and institutional investors, producers of building materials, real estate companies, community planners, and government planners at the Federal, state, and local levels.

The RFS has been conducted as part of the decennial census since 1950. A continuation of the RFS is necessary because the dramatic changes in the real estate finance market which have taken place in the 1990's give no indication of abating in the next decade. The changes in the next 5 to 10 years may be even more dramatic than those of the past decade. It is essential for policy planning and formulation within the government and for accurate market analysis in the private sector that timely, accurate, and comprehensive benchmark data be available on the financing of residential properties.

Affected Public: Individuals or households, Businesses or other for-profit organizations, Federal Government.

Frequency: One-time only.

Respondent's Obligation: Mandatory.

Legal Authority: Title 13 USC, Section 141.

OMB Desk Officer: Susan Schechter, (202) 395-5103.

Copies of the above information collection proposal can be obtained by calling or writing Linda Engelmeier, DOC Forms Clearance Officer, (202) 482-3272, Department of Commerce, room 5033, 14th and Constitution Avenue, NW, Washington, DC 20230 (or via the Internet at LEngelme@doc.gov).

Written comments and recommendations for the proposed information collection should be sent within 30 days of publication of this notice to Susan Schechter, OMB Desk Officer, room 10201, New Executive Office Building, Washington, DC 20503.

Dated: June 1, 2000.
Madeleine Clayton,
Management Analyst, Office of the Chief Information Officer.

[FR Doc. 00-14221 Filed 6-6-00; 8:45 am]

BILLING CODE 3510-07-P